Title 3—

The President

Proclamation 8167 of August 21, 2007

National Alcohol and Drug Addiction Recovery Month, 2007

By the President of the United States of America

A Proclamation

National Alcohol and Drug Addiction Recovery Month provides an opportunity to underscore our commitment to stopping alcohol and drug abuse before it starts and to helping citizens in need overcome addiction and rebuild their lives.

Alcohol and drug addiction can ruin lives and devastate families. We must continue working toward a society in which our citizens can lead lives free from the influence of alcohol and drugs. Friends and family members can play a vital role in the fight and prevention of abuse by discussing the dangers and consequences with loved ones.

My Administration is dedicated to the battle against drug and alcohol addiction. We are expanding access to treatment and recovery support services through the Access to Recovery program. The Drug Enforcement Agency is helping stem the flow of illegal drugs into the United States by targeting the production, distribution, and sale of methamphetamines and other precursor drugs. The Drug Free Communities Program helps our neighborhoods develop strategies to prevent substance abuse. First Lady Laura Bush also leads the Helping America's Youth program to help our Nation's young people make healthy choices throughout their lives and to encourage community and family-based approaches to the challenges and risks facing today's youth.

During National Alcohol and Drug Addiction Recovery Month and throughout the year, we seek to raise awareness about the destructive cycle of addiction and work to provide assistance to those who suffer from substance abuse. This year's theme, “Join the Voices for Recovery: Saving Lives, Saving Dollars,” encourages Americans to recognize the costs of substance use disorders and understand the benefits that treatment can bring to those individuals, their families, and communities. To find out more about how to help save lives from substance abuse, contribute to a culture of compassion, and create a healthy future for our country, citizens may visit recoverymonth.gov.

NOW, THEREFORE, I, GEORGE W. BUSH, President of the United States of America, by virtue of the authority vested in me by the Constitution and laws of the United States, do hereby proclaim September 2007 as National Alcohol and Drug Addiction Recovery Month. I call upon the people of the United States to observe this month with the appropriate programs, ceremonies, and activities.

IN WITNESS WHEREOF, I have hereunto set my hand this twenty-first day of August, in the year of our Lord two thousand seven, and of the Independence of the United States of America the two hundred and thirty-second.

[FR Doc. 07-4198

Filed 8-23-07; 8:52 am]

Billing code 3195-01-P